DEPARTMENT OF HOMELAND SECURITY

Coast Guard

[USCG-2000-7833]

Draft Programmatic Environmental Impact Statement for Vessel and Facility Response Plans for Oil: 2003 Removal Equipment Requirements and Alternative Technology Revisions; Reopening Comment Period

AGENCY: Coast Guard, DHS.

ACTION: Notice of availability and request for comments; reopening the comment period.

SUMMARY: In response to public request, the Coast Guard is reopening the public comment period on the Draft Programmatic Environmental Impact Statement (DPEIS) for the rulemaking on Vessel and Facility Response Plans for Oil; 2003 Removal Equipment Requirements and Alternative Technology Revisions published on June 1, 2005 (70 FR 31487). The DPEIS addresses the increase of the oil removal capacity (caps) requirements for tank vessels and marine transportation-related (MTR) facilities and added requirements for new response technologies. Reopening of the comment period gives the public more time to submit comments and recommendations on the issues raised in the DPEIS.

DATES: Comments must reach the Docket Management Facility on or before September 6, 2005.

ADDRESSES: You may submit comments identified by Coast Guard docket number USCG-2000-7833 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: (202) 493-2251.

(4) Delivery: Room PL-401 on the Plaza level of the Nassif Building, 400 Seventh Street, SW., Washington, DC, between 9 a.m. and 5 p.m., Monday through Friday, except Federal holidays. The telephone number is (202) 366-9329.

FOR FURTHER INFORMATION CONTACT: If you have questions on this notice, call Bradley McKitrick, Coast Guard, telephone (202) 267-0995, or e-mail bmckitrick@comdt.uscg.mil. If you have questions on viewing or submitting material to the docket, call Andrea M. Jenkins, Program Manager, Docket Operations, telephone (202) 366-0271.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2000-7833) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

We are requesting your comments on environmental concerns you may have related to the Draft Programmatic Environmental Impact Statement (DPEIS) for the rulemaking on Vessel and Facility Response Plans for Oil; 2003 Removal Equipment Requirements and Alternative Technology Revisions published on June 1, 2005 (70 FR 31487). We will publish comments received during the DPEIS review period in the final PEIS. We will publish a notice of availability of the final PEIS in the Federal Register. Comments previously submitted need not be resubmitted, as they will be incorporated into the public record as part of this reopened comment period, and will be fully considered.

Dated: August 2, 2005.
R. Petow,
Captain, U.S. Coast Guard, Acting Director of Standards, Marine Safety, Security, and Environmental Protection, U.S. Coast Guard.

[FR Doc. 05-15542 Filed 8-4-05; 8:45 am]

BILLING CODE 4910-15-P